DEPARTMENT OF TRANSPORTATION

Office of the Secretary

[Order 2015-11-24; Docket DOT-OST-2014-0114]

Application of Aerodynamics Incorporated for Certificate Authority

AGENCY: Department of Transportation.

ACTION: Notice of Order to Show Cause (Order 2015-11-24); Docket DOT-OST-2014-0114.

SUMMARY: The Department of Transportation is directing all interested persons to show cause why it should not issue an order finding Aerodynamics Incorporated fit, willing, and able, and awarding it a certificate of public convenience and necessity authorizing it to engage in interstate scheduled air transportation of persons, property, and mail.

DATES: Persons wishing to file objections should do so no later than December 14, 2015.

ADDRESSES: Objections and answers to objections should be filed in Docket DOT-OST-2014-0114 and addressed to the Department of Transportation, Docket Operations, 1200 New Jersey Avenue SE., West Building Ground Floor, Room W12-140, Washington, DC and should be served upon the parties listed in Attachment A to the order.

FOR FURTHER INFORMATION CONTACT: Catherine O'Toole, Air Carrier Fitness Division, (X-56, Office W86-469), U.S. Department of Transportation, 1200 New Jersey Avenue SE., Washington, DC 20590, (202) 366-9721.

Dated: November 30, 2015.
Brandon M. Belford,
Deputy Assistant Secretary for Aviation and International Affairs.

[FR Doc. 2015-30649 Filed 12-3-15; 8:45 am]

BILLING CODE 4910-9X-P